DEPARTMENT OF HEALTH AND HUMAN SERVICES

Centers for Disease Control and Prevention

[30Day-04-0237]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

The 2005-2006 National Health and Nutrition Examination Survey (NHANES), OMB No. 0920-0237—Revision—National Center for Health Statistics (NCHS), Centers for Disease Control and Prevention (CDC).

NHANES programs produce descriptive statistics which measure the health and nutrition status of the general population. Through the use of questionnaires, physical examinations, and laboratory tests, NHANES studies the relationship between diet, nutrition and health in a representative sample of the United States. CDC uses NHANES to monitor the prevalence of chronic conditions and risk factors related to health such as asthma, osteoporosis, infectious diseases, diabetes, eye disease, high blood pressure, high cholesterol, obesity, smoking, drug and alcohol use, physical activity, environmental exposures, and diet. NHANES data are used to establish reference data for the general population against which health care providers can compare such patient characteristics as height, weight, and nutrient levels in the blood. Data from NHANES can be compared to those from previous surveys to monitor changes in the health of the U.S. population. NHANES will also establish a national probability sample of genetic material for future genetic research for susceptibility to disease.

Users of NHANES data include: Congress; Federal agencies such as NIH, EPA, and USDA; private groups such as the American Heart Association; schools of public health; private businesses; individual practitioners; and administrators. NHANES data are used to establish, monitor, and/or evaluate dietary guidelines, food fortification policies, environmental exposures, immunization guidelines and health education and disease prevention programs. The current submission requests approval through March 2007.

CDC, National Center for Health Statistics has conducted the National Health and Nutrition Examination Survey (NHANES) periodically since 1970, and continuously since 1999. Approximately 5,000 participants are examined annually. Participants will receive an interview, a physical examination, a telephone dietary interview and a home allergen dust collection. This survey is completely voluntary and confidential. Respondents are reimbursed for any out-of-pocket costs such as transportation to and from the examination center. There is no cost to respondents other than their time. The annualized burden is estimated to be 62,957 hours.

Respondent category | No. of respondents | No. of responses/ respondent | Avg. burden/response (in hrs.)
1. Screening interview only | 13,333 | 1 | 10/60
2. Screener, family, and sample person interviews only | 300 | 1 | 1.17
3. Screener, family, and sample person interviews and MEC examination (including pilot studies) | 5,180 | 1 | 5.9
4. Household dust collection | 2,328 | 1 | 36/60
5. Food propensity questionnaire | 3,350 | 1 | 30/60
6. Physical activity monitor | 4,000 | 1 | 15/60
7. Second dietary recall interview | 4,300 | 1 | 30/60
8. Follow-up and Special studies | 4,000 | 1 | 5.9

Dated: October 8, 2004.
Alvin Hall,
Director, Management Analysis and Services Office, Centers for Disease Control and Prevention.

[FR Doc. 04-23148 Filed 10-14-04; 8:45 am]

BILLING CODE 4163-18-P